DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 68 FR 62456-62459, dated November 4, 2003) is amended to reorganize the Management Analysis and Services Office, Office of the Chief Operating Officer.

Section C-B, Organization and Functions, is hereby amended as follows:

Revise the functional statement for the Management Analysis and Services Office (CAJ6), Office of the Chief Operating Officer (CAJ), by deleting item (1) and inserting the following: (1) Plans, coordinates, and provides CDC-wide management and information services in the following areas: policy development and consultation, studies and surveys, delegations of authorities, organizations and functions, Privacy Act, confidentiality management, records management, Paperwork Reduction Act and OMB clearance, printing procurement and reproduction, and meeting management, forms design and management, publications distribution, mail services, public inquires, information quality, and Federal advisory committee management.

Delete the functional statement for the Office of the Director (CAJ61) and insert the following:

Plans, directs, coordinates, and implements activities of the Management Analysis and Services Office (MASO). (1) Plans, directs, and coordinates requirements of OMB Circulars to conduct competitive sourcing activities, management review and FAIR Act activities and to determine whether certain Agency functions might be more appropriately carried out through or by commercial sources; (2) plans, develops, and implements policies and procedures in these areas, as appropriate; (3) provides forms management services, including development, coordination of clearances, and inventory management.

Delete in their entirety the title and functional statement for the Committee Management and Program Panels Activity (CAJ62).

Delete in their entirety the title and functional statement for the Management Procedures Branch (CAJ63).

Delete the title and functional statement for the Management Analysis Branch (CAJ64), and insert the following:

Management Analysis and Policy Branch (CAJ64). (1) Provides management and oversight of CDC Federal advisory committees including the CDC-wide special emphasis panel that is the primary review mechanism for assuring scientific and programmatic review of applications and cooperative agreements for grant support and contracts; (2) provides consultation and assistance to CDC program officials on the establishment, modification, or abolishment of organizational structures and functions; reviews and analyzes organizational changes; and develops documents for approval by appropriate CDC or HHS officials; (3) coordinates IG/GAO audit activities; (4) conducts management and operational studies for CDC to improve the effectiveness and efficiency of management and administrative systems techniques, policies, and organizational structures; (5) interprets, analyzes, and makes recommendations concerning delegations and redelegations of program and administrative authorities, and develops appropriate delegating documents; (6) manages the CDC policy issuance system to include policy development, dissemination, and advisory services; interprets HHS and other directives and assesses their impact on CDC policy, and maintains the official CDC library of administrative management policy and procedures manuals; (7) directs the agency-wide confidentiality management function to process applications for approval to collect sensitive research data in accordance with special confidentiality authorities in Sections 301(d) and 308(d) of the Public Health Service Act; (8) provides consultation and assistance to CDC program officials and staff in complying with the requirements of the Privacy Act, the Paperwork Reduction Act and OMB clearance, and accompanying guidelines and regulations; (9) plans, develops, and implements policies and procedures in these areas, as appropriate; (10) conducts a CDC-wide records management program, including provision of technical assistance in the development and conduct of electronic records management activities.

Delete the title and functional statement for the Management Services Branch (CAJ65) and insert the following:

Management and Information Services Branch (CAJ65). (1) Plans and conducts a publications management program, including development, production, procurement, distribution, and storage of CDC publications; (2) plans, directs, coordinates, and implements CDC-wide information distribution services and mail and messenger services, including the establishment and maintenance of mailing lists and OPS Announcements; (3) maintains liaison with contract suppliers, HHS, the Government Printing Office, and other Government agencies on matters pertaining to printing, copy preparation, reproduction, and procurement of printing; (4) manages all functions of the auditoriums at the Roybal Campus and specific meeting rooms at Roybal and other CDC campuses provides conference management support and audio-visual expertise to CIO customers; plans, develops, and implements policies and procedures in these areas, as appropriate; (5) serves as the focal point for recommending policies and establishing procedures for matters pertaining to energy conservation of white office paper recycling; (6) receives and reviews requests received from the public or information and publications; and responds to the requests or triages them to the appropriate organization (CDC or other agencies) for action; (7) manages the CDC-wide subject matter database which serves as a resource for CIOs, call management services and hotlines within CDC; (8) manages the current food service facilities at the Roybal and Chamblee Campuses as well as future planned food service facilities; (9) responsible for the planning, coordination and management of the Conference Center located in the Scientific Communication Center on the Roybal Campus; manages the infrastructure support for functions within the Scientific Communication Center provided by a contractor; (10) manages the receipt and response to complaints by the public questioning the accuracy of any scientific information disseminated by CDC; implements established government guidelines contained in Public Law 106-554, Section 515, for ensuring the Quality of Information disseminated to the public by Government Agencies.

Dated: January 22, 2004.
William H. Gimson,
Chief Operating Officer, Centers for Disease Control and Prevention (CDC).

[FR Doc. 04-1905 Filed 1-28-04; 8:45 am]

BILLING CODE 4160-18-M